DEPARTMENT OF ENERGY

Federal Energy Regulatory Commission

[Project No. 14586-000]

James R. Robertson, PE; Notice of Preliminary Permit Application Accepted for Filing and Soliciting Comments, Motions To Intervene, and Competing Applications

On February 10, 2014, James R. Robertson, PE, filed an application for a preliminary permit, pursuant to section 4(f) of the Federal Power Act (FPA), proposing to study the feasibility of hydropower at the U.S. Army Corps of Engineers' (Corps) Sutton Dam, on the Elk River, in Sutton, Braxton County, West Virginia. The sole purpose of a preliminary permit, if issued, is to grant the permit holder priority to file a license application during the permit term. A preliminary permit does not authorize the permit holder to perform any land-disturbing activities or otherwise enter upon lands or waters owned by others without the owners' express permission.

The proposed Sutton Hydroelectric Power Project would consist of the following: (1) A new 80-foot-long by 40-foot-wide powerhouse containing three generating units with a total installed capacity of 9.2 megawatts; (2) a new multiple-port intake structure to be located at the upstream face of the Sutton dam; (3) a new 12-foot-diameter, 300-foot-long steel penstock; (4) a new 70-foot-long by 30-foot-wide switchyard; (5) a new 138-kilovolt, 4,000-foot-long transmission line; and (6) appurtenant facilities. The estimated annual generation of the proposed project would be 36 gigawatt-hours.

Applicant Contact: James R. Robertson, PE, 5702 Reno Court, Boonsboro, MD 21713; phone: (240) 405-5667.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp.

Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14586-000.

More information about this project, including a copy of the application, can be viewed or printed on the “eLibrary” link of the Commission's Web site at http://www.ferc.gov/docs-filing/elibrary.asp. Enter the docket number (P-14586) in the docket number field to access the document. For assistance, contact FERC Online Support.

Dated: May 6, 2014.
Kimberly D. Bose,
Secretary.

[FR Doc. 2014-10881 Filed 5-12-14; 8:45 am]

BILLING CODE 6717-01-P